DEPARTMENT OF THE INTERIOR

National Park Service

Notice of Inventory Completion: Phoebe A. Hearst Museum of Anthropology, University of California, Berkeley, Berkeley, CA, and U.S. Department of Interior, Bureau of Indian Affairs, Washington, DC

AGENCY: National Park Service, Interior.

ACTION: Notice.

Notice is here given in accordance with the Native American Graves Protection and Repatriation Act (NAGPRA), 25 U.S.C. 3003, of the completion of an inventory of human remains in the possession of the Phoebe A. Hearst Museum of Anthropology, University of California, Berkeley, Berkeley, CA, and in the control of the U.S. Department of the Interior, Bureau of Indian Affairs, Washington, DC. The human remains were removed from tribal lands of the Pueblo of Cochiti, Sandoval County, NM.

This notice is published as part of the National Park Service’s administrative responsibilities under NAGPRA, 25 U.S.C. 3003 (d)(3). The determinations within this notice are the sole responsibility of the museum, institution, or Federal agency that has control of the Native American human remains. The National Park Service is not responsible for the determinations within this notice.

An assessment of the human remains, and catalogue records and associated documents relevant to the human remains, was made by Phoebe A. Hearst Museum of Anthropology professional staff in consultation with representatives of the Pueblo of Cochiti, New Mexico.

In 1904 or earlier, human remains representing at least one individual were removed from an unknown location on tribal lands of the Pueblo of Cochiti, New Mexico, “Cochite [sic] Pueblo Ruin,” by an unknown individual. The human remains were purchased by F.W. Putnam from the Fred Harvey Company. The human remains were acquired by Mrs. P.A. Hearst, who donated the human remains to the Phoebe A. Hearst Museum of Anthropology in 1904. No known individual was identified. No associated funerary objects are present.

Based on the circumstances of burial, the human remains are identified as Native American. The geographical location of the burial on tribal lands indicates that the human remains are most likely to be culturally affiliated with the Pueblo of Cochiti, New Mexico.

Officials of the Phoebe A. Hearst Museum of Anthropology and the Bureau of Indian Affairs have determined that, pursuant to 25 U.S.C. 3001 (9-10), the human remains described above represent the physical remains of at least one individual of Native American ancestry. Officials of the Phoebe A. Hearst Museum of Anthropology and the Bureau of Indian Affairs also have determined that, pursuant to 25 U.S.C. 3001 (2), there is a relationship of shared group identity that can be reasonably traced between the Native American human remains and the Pueblo of Cochiti, New Mexico.

Representatives of any other Indian tribe that believes itself to be culturally affiliated with the human remains should contact C. Richard Hitchcock, NAGPRA Coordinator, Phoebe A. Hearst Museum of Anthropology, University of California, Berkeley, Berkeley CA 94720, telephone (510) 642-6096, before September 19, 2003. Repatriation of the human remains to the Pueblo of Cochiti, New Mexico, may proceed after that date if no additional claimants come forward.

The Phoebe A. Hearst Museum of Anthropology is responsible for notifying the Pueblo of Cochiti, New Mexico that this notice has been published.

Dated: July 8, 2003.
John Robbins,
Assistant Director, Cultural Resources.

[FR Doc. 03-21341 Filed 8-19-03; 8:45 am]

BILLING CODE 4310-70-S